DEPARTMENT OF VETERANS AFFAIRS

2012 Draft Report: Strategies for Serving Our Women Veterans

AGENCY: Department of Veterans Affairs.

ACTION: Notice.

SUMMARY: The Secretary of the Department of Veterans Affairs (VA) established the Women Veterans' Task Force in July 2011, to develop a comprehensive action plan for VA that will focus on resolving critical issues facing women Veterans. The 2012 Draft Report: Strategies for Serving Our Women Veterans is now complete. VA is inviting public comments on the Draft Report.

DATES: Written comments must be received by VA on or before June 13, 2012.

ADDRESSES: Although VA prefers electronic submission of public comments through www.regulations.gov written comments may be submitted through mail or hand-delivery to the Director, Regulations Management (02REG), Department of Veterans Affairs, 810 Vermont Ave. NW., Room 1068, Washington, DC 20420, or by fax to (202) 273-9026. This is not a toll free number. Please view and download the Women Veterans' Task Force Draft Report for public comment at http://www.va.gov/opa/publications/Draft_2012_Women-Veterans_StrategicPlan.pdf. Please write “Strategies for Serving Our Women Veterans Draft Report for Public Comment” in the subject line of your letter or email. Copies of all comments received will be available for public inspection in the Office of Regulation Policy and Management, Room 1063B, between the hours of 8:00 a.m. and 4:30 p.m., Monday through Friday (except holidays). Please call (202) 461-4902 for an appointment. This is not a toll free number. Comments may also be viewed online during the comment period, through the Federal Docket Management System at www.regulations.gov.

FOR FURTHER INFORMATION CONTACT: Mary Carstensen, Senior Advisor to the Secretary, Department of Veterans Affairs, 810 Vermont Avenue NW., Washington, DC 20420.

Signing Authority

The Secretary of Veterans Affairs, or designee, approved this document and authorized the undersigned to sign and submit the document to the Office of the Federal Register for publication electronically as an official document of the Department of Veterans Affairs. John R. Gingrich, Chief of Staff, Department of Veterans Affairs, approved this document on May 8, 2012, for publication.

Dated: May 9, 2012.
Robert C. McFetridge,
Director of Regulation Policy and Management, Office of the General Counsel, Department of Veterans Affairs.

[FR Doc. 2012-11616 Filed 5-11-12; 8:45 am]

BILLING CODE 8320-01-P